Title 3—

The President

Proclamation 8350 of March 2, 2009

Irish-American Heritage Month, 2009

By the President of the United States of America

A Proclamation

Even before the birth of our Nation, the sons and daughters of Erin departed their homes in search of liberty and a more hopeful future. As these early pioneers left familiar lands, they carried with them the rich traditions of home. This March we honor their journey and their lasting contributions to the history and culture of the United States.

Following the colonial migrations, the United States enjoyed the greatest influx of Irish during the 1840s as Ireland suffered the Great Famine. Hungry but hopeful, poor but perseverant, Irish-Americans seized the opportunity to work hard, enjoy success, and pursue the American Dream.

Many took on the difficult work of constructing America’s infrastructure. Others assumed positions of leadership. Among those leaders were signers of the Declaration of Independence and Presidents of the United States. Still others enjoyed great success and influence in the arts and literature. From social activists to business leaders, athletes to clergy, and first responders to soldiers, distinguished Irish-Americans have made indelible contributions to our national identity.

Today, tens of millions of Irish-Americans can look back with pride on the legacy of their forebears. Irish-Americans are integral to the rich fabric of the United States, and we are grateful for their service and contributions.

NOW, THEREFORE, I, BARACK OBAMA, President of the United States of America, by virtue of the authority vested in me by the Constitution and laws of the United States, do hereby proclaim March 2009 as Irish-American Heritage Month. I encourage all Americans to observe this month with appropriate ceremonies, programs, and activities.

IN WITNESS WHEREOF, I have hereunto set my hand this second day of March, in the year of our Lord two thousand nine, and of the Independence of the United States of America the two hundred and thirty-third.

[FR Doc. E9-4855

Filed 3-4-09; 11:15 am]

Billing code 3195-W9-P